DEPARTMENT OF ENERGY

Federal Energy Regulatory Commission

[Docket No. EL07-30-000]

Notice of Complaint; Newark Bay Cogeneration Partnership, L.P. Complainant v. PJM Interconnection, L.L.C., Public Service Electric and Gas Company, Respondent.

January 9, 2007.

Take notice that on January 8, 2007, Newark Bay Cogeneration Partnership, L.P. (Newark Bay) filed a formal complaint, pursuant to sections 205 and 306 of the Federal Power Act and Rule 206 of the Commission's Rules of Practice and Procedure, against PJM Interconnection, L.L.C. (PJM) and Public Service Electric and Gas Company (PSE&G) relating to the outage of the 230KV transmission line connecting Newark Bay to PSE&G's Essex Switching Station and alleging that PJM and PSE&G failed to comply with applicable tariff provisions in scheduling and conducting the outage.

Newark Bay certifies that copies of the complaint were served simultaneously with its filing on the contacts for PJM and PSE&G as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 29, 2007.

Magalie R. Salas,
Secretary.

[FR Doc. E7-447 Filed 1-12-07; 8:45 am]

BILLING CODE 6717-01-P